ENVIRONMENTAL PROTECTION AGENCY

[EPA-HQ-OPP-2015-0651; FRL-9934-39]

Pesticide Program Dialogue Committee; Notice of Charter Renewal

AGENCY: Environmental Protection Agency (EPA).

ACTION: Notice.

SUMMARY: Notice is hereby given that the Environmental Protection Agency has determined that, in accordance with the provisions of the Federal Advisory Committee Act (FACA), 5 U.S.C. App.2., the Pesticide Program Dialogue Committee (PPDC) is a necessary committee which is in the public interest. Accordingly, PPDC will be renewed for an additional two-year period. The purpose of PPDC is to provide advice and recommendations to the EPA Administrator on issues associated with regulatory development and reform initiatives, evolving public policy and program implementation issues, and science issues associated with evaluating and reducing risks from use of pesticides.

FOR FURTHER INFORMATION CONTACT: Dea Zimmerman, Designated Federal Officer, Pesticide Program Dialogue Committee (PPDC), U.S. EPA, (mail code LC-8J), 77 W. Jackson Boulevard, Chicago, IL 60604, telephone number: (312) 353-6344; email address: zimmerman.dea@epa.gov.

SUPPLEMENTARY INFORMATION:

A. Does this action apply to me?

You may be potentially affected by this action if you work in in agricultural settings or if you are concerned about implementation of the Federal Insecticide, Fungicide, and Rodenticide Act (FIFRA); the Federal Food, Drug, and Cosmetic Act (FFDCA); and the amendments to both of these major pesticide laws by the Food Quality Protection Act (FQPA) of 1996; the Pesticide Registration Improvement Act, and the Endangered Species Act. Potentially affected entities may include, but are not limited to: Agricultural workers and farmers; pesticide industry and trade associations; environmental, consumer, and farm worker groups; pesticide users and growers; animal rights groups; pest consultants; State, local, and tribal governments; academia; public health organizations; and the public. If you have questions regarding the applicability of this action to a particular entity, consult the person listed under FOR FURTHER INFORMATION CONTACT.

B. How can I get copies of this document and other related information?

The docket for this action, identified by docket identification (ID) number EPA-HQ-OPP-2015-0651, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

Authority: 5 U.S.C. App.2.

Dated: October 13, 2015.
Jack Housenger,
Director, Office of Pesticide Programs.

[FR Doc. 2015-26769 Filed 10-22-15; 8:45 am]

BILLING CODE 6560-50-P